DEPARTMENT OF LABOR

Employment and Training Administration

Disability Employment Grant Program Funded Under the Workforce Investment Act Title I, Disability Program; Notice of Changes to Solicitation for Grant Application (SGA)

On November 7, 2001, the Department of Labor (DOL) announced in the Federal Register (Vol. 66, No. 216; pp. 56347-56358) a solicitation for grant applications (SGA) for the Disability Program (Reference: SGA/DFA 02-100). Proposals for this SGA were to be submitted by 4 p.m. Eastern Standard Time (EST) on Friday, December 21, 2001.

Under Part III Review Process, Evaluation Criteria and Statement of Work, four (4) criteria are described. As a result of several inquiries, the Department wishes to clarify its' intent of criterion A. Project Design. Effective this date, Part III Project Design, No. 2. Training and Supportive Services paragraphs 4 & 5 are replaced as follows:

Applicants are encouraged to include on-the-job training and internship or self-employment strategies in their project design. Project design must describe why these are effective strategies for the client group being served and how many participants are expected to receive specific services (e.g., how many will be in on-the-job training). Private sector employer commitment to on-the-job positions should be identified.

Applicants are also encouraged to include strategies related to training in the information technology skills sector, such as software design, network applications, and service repair technicians. The description provided should be clear on the complexity of the training and expectations for higher salaried employment outcomes with a long range career potential. This may include training on Microsoft WORD, Word Perfect, Lotus, or other basic computer familiarity training.

Other than indicated herein, the requirements established by the above referenced November 7, 2001 SGA (SGA/DFA 02-100) remain in force.

Signed at Washington, DC, this 30th day of November 2001.
Lorraine H. Saunders,
Grant Officer, Division of Federal Assistance.

[FR Doc. 01-30186 Filed 12-5-01; 8:45 am]

BILLING CODE 4510-30-P